DEPARTMENT OF TRANSPORTATION

Federal Aviation Administration

14 CFR Part 39

[Docket No. FAA-2007-28433; Directorate Identifier 2007-CE-052-AD]

RIN 2120-AA64

Airworthiness Directives; Cessna Aircraft Company, Models 172, 182, and 206 Series Airplanes

AGENCY: Federal Aviation Administration (FAA), Department of Transportation (DOT).

ACTION: Notice of proposed rulemaking (NPRM).

SUMMARY: We propose to adopt a new airworthiness directive (AD) for certain Cessna Aircraft Company (Cessna), Models 172, 182, and 206 series airplanes. This proposed AD would require you to remove the seats, modify the seat base/back attach brackets, and reinstall the seats of all the crew seats of the affected airplanes and seats 3 and 4 on Model 206 series airplanes. This proposed AD results from reports of the seat base/back attach bracket failing where it is welded to the seat base. We are proposing this AD to prevent failure of the seat base/back attach brackets, which could result in the seats collapsing backwards during flight with consequent loss of control.

DATES: We must receive comments on this proposed AD by September 17, 2007.

ADDRESSES: Use one of the following addresses to comment on this proposed AD:

• DOT Docket Web site: Go to http://dms.dot.gov and follow the instructions for sending your comments electronically.

• Mail: U.S. Department of Transportation, Docket Operations, M-30, West Building Ground Floor, Room W12-140, 1200 New Jersey Avenue, SE., Washington, DC 20590.

• Fax: (202) 493-2251.

• Hand Delivery: U.S. Department of Transportation, Docket Operations, M-30, West Building Ground Floor, Room W12-140, 1200 New Jersey Avenue, SE., Washington, DC 20590, between 9 a.m. and 5 p.m., Monday through Friday, except Federal holidays.

• Federal eRulemaking Portal: Go to http://www.regulations.gov. Follow the instructions for submitting comments.

For service information identified in this proposed AD, contact Cessna Aircraft Company, Product Support, P.O. Box 7706, Wichita, Kansas 67277; telephone: (316) 517-5800; fax: (316) 942-9006.

FOR FURTHER INFORMATION CONTACT: Gary Park, Aerospace Engineer, 1801 Airport Road, Room 100, Wichita, Kansas 67209; telephone: (316) 946-4123; fax: (316) 946-4107.

SUPPLEMENTARY INFORMATION:

Comments Invited

We invite you to send any written relevant data, views, or arguments regarding this proposed AD. Send your comments to an address listed under the ADDRESSES section. Include the docket number, “FAA 2007-28433; Directorate Identifier 2007-CE-052-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

We have received three reports of the seat base/back bracket failing on Cessna Models 172, 182, and 206 series airplanes. Inadequate penetration of the weld bead may cause the weld to fail where the seat back bracket attaches to the seat base.

This condition, if not corrected, could result in the seats collapsing backwards during flight with consequent loss of control.

Relevant Service Information

We have reviewed Cessna Service Bulletin, No. SB-7-25-04, dated April 23, 2007. The service information describes procedures for removing the seats, modifying the seat base/back attach brackets, and reinstalling the seats of all the crew seats of the affected airplanes and seats 3 and 4 on Model 206 series airplanes.

FAA's Determination and Requirements of the Proposed AD

We are proposing this AD because we evaluated all information and determined the unsafe condition described previously is likely to exist or develop on other products of the same type design. This proposed AD would require you to remove the seats, modify the seat base/back attach brackets, and reinstall the seats of all the crew seats of the affected airplanes and seats 3 and 4 on Model 206 series airplanes.

Costs of Compliance

We estimate that this proposed AD would affect 1,556 airplanes in the U.S. registry.

We estimate the following costs to do the proposed modification:

Labor cost | Parts cost | Total cost per airplane | Total cost on U.S. operators
For Models 172 and 182 series airplanes: 5 work-hours × $80 per hour = $400 (for two seats) | $800 (for two seats) | $1,200 | $1,599,600
For Model 206 series airplanes: 9 work-hours × 80 per hour = $720 (for four seats) | 1,234 (for four seats) | 1,954 | 435,742

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Cessna Aircraft Company: Docket No. FAA 2007-28433; Directorate Identifier 2007-CE-052-AD.

Comments Due Date

(a) We must receive comments on this airworthiness directive (AD) action by September 17, 2007.

Affected ADs

(b) None.

Applicability

(c) This AD applies to the following airplane models and serial numbers that are certificated in any category:

Models | Serial Nos.
(1) 172R | 17281211 through 17281356.
(2) 172S | 172S9621 through 172S10310, 172S10312 through 172S10324, 172S10327 through 172S10332, 172S10334 through 172S10349, 172S10351 through 172S10374, 172S10376 through 172S10386, 172S10388 through 172S10408, 172S10410 through 172S10412, 172S10414 through 172S10417, and 172S10421 through 172S10423.
(3) 182T | 18281328 through 18281867, 18281869 through 18281871, 18281873 through 18281875, and 18281877.
(4) T182T | T18208240 through T18208651, T18208654, T18208656 through T18208659, T18208663, T18208664, and T18208667 through T18208668.
(5) 206H | 20608216 through 20608283.
(6) T206H | T20608445 through T20608662, T20608664 through T20608671, T20608673, T20608674, T20608676 through T20608681, T20608683 through T20608689, T20608691, T20608692, T20608694 through T20608696, T20608699 through T20608701, T20608703, and T20608704.

Unsafe Condition

(d) This AD results from reports of the seat base/back attach bracket failing where it is welded to the seat base. We are issuing this AD to prevent failure of the seat base/back attach brackets, which could result in the seats collapsing backwards during flight with consequent loss of control.

Compliance

(e) To address this problem, you must do the following, unless already done:

Actions | Compliance | Procedures
Remove, modify, and reinstall the crew seats (and seats 3 and 4 on the Model 206 series airplanes) | Within the next 50 hours time-in-service after the effective date of this AD or within the next 6 months after the effective date of this AD, whichever occurs first | Follow Cessna Aircraft Company Service Bulletin SB07-25-04, dated April 23, 2007.

Alternative Methods of Compliance (AMOCs)

(f) The Manager, Wichita Aircraft Certification Office, FAA, has the authority to approve AMOCs for this AD, if requested using the procedures found in 14 CFR 39.19. Send information to ATTN: Gary Park, Aerospace Engineer, 1801 Airport Road, Room 100, Wichita, Kansas 67209; telephone: (316) 946-4123; fax: (316) 946-4107. Before using any approved AMOC on any airplane to which the AMOC applies, notify your appropriate principal inspector (PI) in the FAA Flight Standards District Office (FSDO), or lacking a PI, your local FSDO.

Related Information

(g) To get copies of the service information referenced in this AD, contact Cessna Aircraft Company, Product Support, P.O. Box 7706, Wichita, Kansas 67277; telephone: (316) 517-5800; fax: (316) 942-9006. To view the AD docket, go to U.S. Department of Transportation, Docket Operations, M-30, West Building Ground Floor, Room W12-140, 1200 New Jersey Avenue, SE., Washington, DC 20590, or on the Internet at http://dms.dot.gov. The docket number is Docket No. FAA-2007-28433; Directorate Identifier 2007-CE-052-AD.

Issued in Kansas City, Missouri, on July 12, 2007.
Sandra J. Campbell,
Acting Manager, Small Airplane Directorate, Aircraft Certification Service.

[FR Doc. E7-13984 Filed 7-18-07; 8:45 am]

BILLING CODE 4910-13-P